DEPARTMENT OF ENERGY

Federal Energy Regulatory Commission

[Docket No. RP99-363-003]

Equitrans, L.P.; Notice of Proposed Changes in FERC Gas Tariff

March 31, 2000.

Take notice that on March 28, 2000, Equitrans, L.P. (Equitrans) tendered for filing as part of its FERC Gas Tariff, Original Volume No. 1, revised tariff sheet a proposed effective date of April 1, 2000.

First Revised Sheet No. 308

Equitrans states that the purpose of this filing is to comply with the Commission's Order issued on March 20, 2000. The order granted Equitrans a waiver of the GISB Standards (Version 1.3): Nomination Standards 1.4.1 through 1.4.7, Flowing Gas Standards 2.4.1 through 2.4.6, Invoicing Standards 3.4.1 through 3.4.4, EDM Standards 4.3.1 through 4.3.3, and to the extent applicable to EDI transactions, 4.3.9 through 4.3.15, Capacity Release Standards 5.4.1 through 5.4.17 until December 31, 2000. Equitrans is incorporating this waiver into its FERC Gas Tariff, Original Volume No. 1.

Any person desiring to protest this filing should file a protest with the Federal Energy Regulatory Commission, 888 First Street, NE, Washington, DC 20426, in accordance with Section 385.211 of the Commission's Rules and Regulations. All such protests must be filed as provided in Section 154.210 of the Commission's Regulations. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

Linwood A. Watson, Jr.,
Acting Secretary.

[FR Doc. 00-8474 Filed 4-5-00; 8:45 am]

BILLING CODE 6717-01-M